ENVIRONMENTAL PROTECTION AGENCY

[FRL-7046-6]

Waste Characterization Program Documents Applicable to Transuranic Radioactive Waste From the Savannah River Site Proposed for Disposal at the Waste Isolation Pilot Plant

AGENCY: Environmental Protection Agency.

ACTION: Notice of availability; opening of public comment period.

SUMMARY: The Environmental Protection Agency (EPA, or “we”) is announcing the availability of, and soliciting public comments for 30 days on, Department of Energy (DOE) documents on waste characterization programs applicable to certain transuranic (TRU) radioactive waste at the Savannah River Site (SRS) proposed for disposal at the Waste Isolation Pilot Plant (WIPP). The documents are procedures and other materials related to the Central Characterization Project (CCP), established by DOE to augment the ability of TRU waste sites to characterize and certify the waste in accordance with EPA's WIPP Compliance Criteria. The documents are available for review in the public dockets listed in ADDRESSES. We will use these documents to evaluate the CCP activities at SRS to characterize SRS-generated contact-handled (CH) TRU debris waste during an inspection conducted the week of September 24, 2001. The purpose of the inspection is to verify that the CCP can properly characterize SRS-generated contact-handled (CH) TRU solid debris waste, consistent with the WIPP Compliance Criteria and Condition 3 of EPA's final certification decision for the WIPP.

DATES: The EPA is requesting public comment on these documents. Comments must be received by EPA's official Air Docket on or before September 28, 2001.

ADDRESSES: Comments should be submitted to: Docket No. A-98-49, Air Docket, Room M-1500 (LE-131), U.S. Environmental Protection Agency, 401 M Street, SW, Washington, DC, 20460.

DOE documents related to the CCP are available for review in the official EPA Air Docket in Washington, D.C., Docket No. A-98-49, Category II-B2, and at the following three EPA WIPP informational docket locations in New Mexico: in Carlsbad at the Municipal Library, Hours: Monday-Thursday, 10am-9pm, Friday-Saturday, 10am-6pm, and Sunday, 1pm-5pm; in Albuquerque at the Government Publications Department, General Library, University of New Mexico, Hours: vary by semester; and in Santa Fe at the New Mexico State Library, Hours: Monday-Friday, 9am-5pm.

Copies of items in the docket may be requested by writing to Docket A-98-49 at the address provided above, or by calling (202) 260-7548. As provided in EPA's regulations at 40 CFR Part 2, and in accordance with normal EPA docket procedures, a reasonable fee may be charged for photocopying. Air Docket A-98-49 in Washington, DC, accepts comments sent electronically or by fax (fax no.: 202-260-4400; E-mail: a-and-r-docket@epa.gov).

FOR FURTHER INFORMATION CONTACT: Ms. Rajani D. Joglekar, Office of Radiation and Indoor Air, (202) 564-9310, or call EPA's 24-hour, toll-free WIPP Information Line, 1-800-331-WIPP, or visit our website at http://www.epa.gov/radiation/wipp/announce.html.

SUPPLEMENTARY INFORMATION: The DOE owns and operates the Waste Isolation Pilot Project (WIPP) facility near Carlsbad in southeastern New Mexico as a deep geologic repository for disposal of TRU radioactive waste. As defined by the WIPP Land Withdrawal Act (LWA) of 1992 (Pub. L. No. 102-579), as amended (Pub. L. No. 104-201), TRU waste consists of materials containing elements having atomic numbers greater than 92 (with half-lives greater than twenty years), in concentrations greater than 100 nanocuries of alpha-emitting TRU isotopes per gram of waste. Most TRU waste consists of items contaminated during the production of nuclear weapons, such as rags, equipment, tools, and organic and inorganic sludges.

On May 13, 1998, EPA announced its final compliance certification decision to the Secretary of Energy (published May 18, 1998, 63 FR 27354). This decision states that the WIPP will comply with the EPA's radioactive waste disposal regulations at 40 CFR part 191, subparts B and C.

The final WIPP certification decision includes a condition that prohibits shipment of TRU waste for disposal at WIPP from any site other than LANL until EPA has approved the procedures developed to comply with the waste characterization requirements of § 194.24(c)(4) (Condition 3 of Appendix A to 40 CFR part 194). The EPA's approval process for waste generator sites is described in § 194.8. As part of EPA's decision making process, DOE is required to submit to EPA relevant documentation of waste characterization programs at each DOE waste generator site seeking approval for shipment of TRU radioactive waste to the WIPP. In accordance with § 194.8, EPA will place such documentation in the official Air Docket in Washington, D.C., and in informational dockets in the State of New Mexico, for public review and comment.

At the direction of DOE's Carlsbad Field Office (CBFO), Westinghouse TRU Solutions (WTS) has been developing the CCP mainly to assist DOE facilities that have generated small quantities of TRU waste with meeting applicable waste characterization requirements. At the present stage of development of the CCP, all required waste characterization will be managed by WTS at TRU waste sites prior to shipment to the WIPP. For the inspection announced today, the CCP will demonstrate their capabilities in characterizing TRU debris waste generated at SRS in accordance with the DOE/CBFO-implemented waste characterization (WC) and quality assurance (QA) plans.

DOE/CBFO conducted an initial audit of the CCP at SRS on June 18-20, 2001, which EPA observed. DOE/CBFO has scheduled a final audit for the week of September 24, 2001, to evaluate the adequacy, implementation, and effectiveness of technical and quality assurance activities related to the CCP TRU waste characterization of contact-handled, retrievably-stored debris waste at SRS. The evaluation would lead DOE/CBFO to certify that the CCP-characterized CH TRU debris waste meets all applicable requirements at 40 CFR part 194. We will conduct an independent inspection under § 194.8 at the same time as DOE/CBFO's audit to verify that the CCP has characterized SRS-generated CH TRU debris waste appropriately in accordance with Condition 3 of our WIPP Certification Decision (Appendix A to 40 CFR part 194) and § 194.24(c)(4). The CCP may not ship transuranic waste from SRS to the WIPP until EPA has approved the CCP's waste characterization processes and quality assurance in accordance with § 194.8.

The following documents related to the CCP have been placed in Air Docket A-98-49, particularly: (1) “CCP-PO-001—Revision 2, 7/23/01—CCP Transuranic Waste Quality Assurance Characterization Project Plan” (2) “CCP-PO-002—Revision 2, 7/23/01—CCP Transuranic Waste Certification Plan” and (3) IWR NO. AC27750W—Revision 0, 7/23/01—Savannah River Site Statement of Work IE 8863 for Clarification of SRS TRU Waste.” These documents describe the top-tier programmatic requirements for the CCP. In accordance with § 194.8 of the WIPP compliance criteria, we are providing the public 30 days to comment on the documents in the docket. EPA will review other potentially relevant documentation and will interview CCP personnel during the inspection. Our inspection activities and findings will be summarized in our inspection report, which will be placed in Docket A-98-49.

If EPA determines that the provisions in the documents available in the EPA Docket are adequately implemented, we will notify DOE by letter and place the letter in the official Air Docket in Washington, D.C., and in the informational docket locations in New Mexico. We will not make a determination of compliance prior to the inspection or before the 30-day comment period has closed.

Information on EPA's radioactive waste disposal standards (40 CFR part 191), the compliance criteria (40 CFR part 194), and EPA's certification decision is filed in the official EPA Air Docket, Dockets No. R-89-01, A-92-56, and A-93-02, respectively, and is available for review in Washington, D.C., and at the three EPA WIPP informational docket locations in New Mexico. The dockets in New Mexico contain only major items from the official Air Docket in Washington, D.C., plus those documents added to the official Air Docket after the October 1992 enactment of the WIPP LWA.

Dated: August 23, 2001.
Jeffrey R. Holmstead,
Assistant Administrator for Air and Radiation.

[FR Doc. 01-21812 Filed 8-28-01; 8:45 am]

BILLING CODE 6560-50-P